DEPARTMENT OF COMMERCE

International Trade Administration

U.S. Department of Commerce Trade Finance Advisory Council

AGENCY: International Trade Administration, U.S. Department of Commerce.

ACTION: Notice of an open meeting.

SUMMARY: The U.S. Department of Commerce Trade Finance Advisory Council (TFAC or the Council) will hold a virtual meeting on Thursday, December 2, 2021. The meeting is open to the public with registration instructions provided below.

DATES: Thursday, December 2, 2021, from approximately 1:00 p.m. to 3:00 p.m. Eastern Standard Time (EST). The deadline for members of the public to register, including requests to make comments during the meeting and for auxiliary aids, or to submit written comments for dissemination prior to the meeting, is 5:00 p.m. EST on Monday, November 29, 2021. Registration, comments, and any auxiliary aid requests should be submitted via email to Patrick.Zimet@trade.gov.

ADDRESSES: The meeting will be held virtually via WebEx video conferencing.

FOR FURTHER INFORMATION CONTACT: Patrick Zimet, Designated Federal Officer, Office of Finance and Insurance Industries (OFII), International Trade Administration, U.S. Department of Commerce at (202) 306-9474; email: Patrick.Zimet@trade.gov.

SUPPLEMENTARY INFORMATION:

Background

The TFAC was originally chartered on August 11, 2016, pursuant to discretionary authority and in accordance with the Federal Advisory Committee Act, as amended, 5 U.S.C. App., and was most recently re-chartered on August 7, 2020. The TFAC serves as the principal advisory body to the Secretary of Commerce on policy matters relating to access to trade finance for U.S. exporters, including small- and medium-sized enterprises, and their foreign buyers. The TFAC is the sole mechanism by which the Department of Commerce (the Department) convenes private sector stakeholders to identify and develop consensus-based solutions to trade finance challenges. The Council is comprised of a diverse group of stakeholders from the trade finance industry and the U.S. exporting community, as well as experts from academia and public policy organizations.

On Thursday, December 2, 2021, the TFAC will hold the second meeting of its 2020-2022 charter term. During the meeting, members will discuss initial recommendations put forth by the TFAC's four subcommittees: Inclusive Growth, International Policy, Fintech, and Supply Chain Finance. The TFAC will deliberate over the proposed recommendations, provide feedback to the subcommittees, and establish next steps in order to finalize the recommendations by the end of the TFAC's third term.

Meeting minutes will be available within 90 days of the meeting upon request or on the TFAC's website at https://www.trade.gov/about-us/trade-finance-advisory-council-tfac.

Public Participation

The meeting will be open to the public and there will be limited time permitted for public comments. Members of the public seeking to attend the meeting, make comments during the meeting, request auxiliary aids, or submit written comments for consideration prior to the meeting, are required to submit their requests electronically to Patrick.Zimet@trade.gov by 5:00 p.m. EST on Monday, November 29, 2021. Requests received after this deadline will be accepted but may not be possible to accommodate.

Members of the public may submit written comments concerning TFAC affairs at any time before or after a meeting. Comments may be submitted to Patrick Zimet, at the contact information indicated above. All comments and statements received, including attachments and other supporting materials, are part of the public record and subject to public disclosure.

Heather Helm,
Acting Executive Director for Services, Office of the Deputy Assistant Secretary for Services.

[FR Doc. 2021-24093 Filed 11-3-21; 8:45 am]

BILLING CODE P